DEPARTMENT OF ENERGY

Federal Energy Regulatory Commission

[Project No. 12757-003]

BOST4 Hydroelectric Company, LLC; Notice of Application Tendered for Filing With the Commission and Soliciting Additional Study Requests

Take notice that the following hydroelectric application has been filed with the Commission and is available for public inspection.

a. Type of Application: Original Major License.

b. Project No.: P-12757-003.

c. Date filed: February 24, 2011.

d. Applicant: BOST4 Hydroelectric Company, LLC (BOST4).

e. Name of Project: Red River Lock & Dam No. 4 Hydroelectric Project.

f. Location: The proposed project would be located at the existing Army Corps of Engineer's (Corps) Red River Lock & Dam No. 4 on the Red River, in Red River Parish near the City of Coushatta, Louisiana.

g. Filed Pursuant to: Federal Power Act 16 U.S.C. 791(a)-825(r).

h. Applicant Contacts: Mr. Douglas A. Spalding, BOST4 Hydroelectric Company, LLC, 8441 Wayzata Blvd., Suite 101, Golden Valley, MN 55426; (952) 544-8133.

i. FERC Contact: Jeanne Edwards (202) 502-6181 or by e-mail at Jeanne.edwards@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 25, 2011.

All documents may be filed electronically via the internet. See 18 CFR 385.2001(a)(1)(iii) and the instructions on the Commission's Web site (http://www.ferc.gov/docs-filing/ferconline.asp) under the “e-Filing” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Federal Energy Regulatory Commission, 888 First Street, NE., Washington, DC 20426.

m. The application is not ready for environmental analysis at this time.

n. The proposed project would utilize the existing U.S. Army Corps of Engineers (Corps) Red River Lock and Dam No. 4, and operate consistent with the Corps current operation policy. The proposed project consists of: (1) An excavated 385-foot-long headrace channel to convey water from the upstream Pool No. 4 of the Red River to a 301-foot-long by 90-foot-wide concrete powerhouse located southwest of the end of the existing overflow weir; (2) an excavated 477-foot-long tailrace channel to discharge water from the powerhouse to the downstream Pool No. 3 of the Red River; (3) one 28.1-megawatt (MW) horizontal Kaplan bulb turbine/generator unit; (4) one 3.0 mile-long, 34.5-kilovolt (kV) overhead transmission line leading from a project substation located at the project's powerhouse and connecting to Central Louisiana Electric Company's existing 34.5-kV transmission line; and (5) appurtenant facilities. The proposed project would generate about 128,532 megawatt-hours (MWh) annually which would be sold to a local utility.

o. A copy of the application is available for review at the Commission in the Public Reference Room, or may be viewed on the Commission's Web site at http://www.ferc.gov, using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Louisiana State Historic Preservation Officer (SHPO), as required by 106, National Historic Preservation Act, and the regulations of the Advisory Council on Historic Preservation, 36, CFR, at 800.4.

q. Procedural schedule: The application will be processed according to the following Hydro Licensing Schedule. Revisions to the schedule will be made as appropriate.

Issue Deficiency Letter | May 2011.
Issue Acceptance Letter | September 2011.
Issue Scoping Document 1 for comments | October 2011.
Request Additional Information (if necessary) | December 2011.
Notice of application is ready for environmental analysis | April 2012.
Notice of the availability of the EA | April 2013.

Dated: March 10, 2011.
Kimberly D. Bose,
Secretary.

[FR Doc. 2011-6195 Filed 3-16-11; 8:45 am]

BILLING CODE 6717-01-P